DEPARTMENT OF COMMERCE

National Oceanic and Atmospheric Administration (NOAA)

[Docket No.: 050225045-5045-01]

Privacy Act of 1974: System of Records

AGENCY: Department of Commerce.

ACTION: Notice of a new Privacy Act System of Records: COMMERCE/NOAA System-16; Crab Economic Data Report for Bering Sea/Aleutian Islands Management Area (BSAI) off the coast of Alaska.

SUMMARY: This notice establishes the Department's proposal for a new system of records under the Privacy Act. The National Marine Fisheries Service (NMFS), Alaska Region, is creating a new system of records for the mandatory collection of crab economic data. Eight versions of a form, specific to the four types of crab activity and one specific for historical information that occurred prior to the Crab Rationalization Program and one for annual information to be submitted annually, entitled, “Crab Economic Data Report (EDR),” will be used to collect information on costs of fishing and processing, revenues for harvesters and processors, and employment information required under the Magnuson-Stevens Fishery Conservation and Management Act (Magnuson-Stevens Act). Information obtained through the EDR would be accessible by the independent Data Collection Agent (DCA) under cooperative agreement with NMFS, Alaska Region, to distribute forms, receive forms, review, and verify information in the crab economic surveys (see SYSTEM LOCATION). Each vessel owner or lessee and each plant owner or lessee that participated in the specified crab fisheries since 1996 will be required to submit a EDR to the DCA by mail, FAX, or electronic file.

DATES: To be considered, written comments must be submitted on or before April 4, 2005. Unless comments are received, the new system of records will become effective as proposed on the date of publication of a subsequent notice in the Federal Register.

ADDRESSES: Comments may be mailed to Sue Salveson, Assistant Regional Administrator for Sustainable Fisheries, Alaska Region, National Marine Fisheries Service, P.O. Box 21668, Juneau, AK , 99802, Attn: Lori Durall, or delivered to the Federal Building, 709 West 9th Street, Juneau, AK, 99802.

FOR FURTHER INFORMATION CONTACT: Patsy A. Bearden, 907-586-7008.

SUPPLEMENTARY INFORMATION: NMFS, Alaska Region, is creating a new system of records for two purposes: The first is to evaluate the economic effects of the Crab Rationalization Program, specifically the effects on the harvesting and processing sectors, to determine the economic efficiency and distributional effects of the Program. The second is to provide information to the Department of Justice and Federal Trade Commission to assist in anti-trust analysis of the Program. All vessel owners or lessees and plant owners or lessees who participated in the specified crab fisheries since 1996 will be required to submit the appropriate EDR (specific to the type of activity and whether historical or annual) to the NOAA-approved DCA. The owner will identify lessee on the EDR (name and other contact information). If the vessel or plant owner or lessee did not conduct crab activity for a given year, he or she would send in only the certification page from the EDR for that year declaring no activity for that year.

The system is designed as follows: (1) Participants will be required to submit a historical EDR and an annual EDR to the NOAA-approved DCA; (2) The DCA will provide the EDR information without individual identifiers to NMFS Alaska Region, State of Alaska Department of Fish and Game, and the North Pacific Fishery Management Council; (3) Upon request, the DCA will provide the EDR information with individual identifiers to NOAA Office for Enforcement and the U.S. Coast Guard, and (4) Upon request, DCA will provide the EDR information with individual identifiers to the DOJ and FTC to assist in anti-trust analysis of the Program.

COMMERCE/NOAA-16

System Name:

Crab Economic Data Report (EDR) for BSAI off the coast of Alaska.

System Classification:

None.

System Location:

Pacific States Marine Fisheries Commission, 612 West Willoughby Avenue, Juneau, Alaska, 99802.

Categories of Individuals Covered by the System:

Owners or lessees of vessels that harvest or process crab beginning with year 1996, including all future data, and owners or lessees of plants that process crab beginning with 1996, including all future data. Crew members. Captains (operators) of vessels.

Categories of Records in the System:

System includes records for historical, annual, and current EDRs including financial information, crab harvest activity and cost, crab product and cost information, labor cost information for crew, and crab sales information. Each report includes the following: the name, title, telephone number, FAX number, and e-mail address of the person completing the EDR; name and address of the owner or lessee of the plant or vessel; Federal fisheries permit number; Federal processor permit number; Alaska vessel registration number; crew license number and city of residence, assigned internal individual identifier.

Authority for Maintenance of the System:

Section 313(j) of the Magnuson-Stevens Act, 16 U.S.C. 1853.

Purpose(s):

This information will permit: The evaluation of the economic effects of the Crab Rationalization Program (Program), specifically the harvesting and processing sectors; the determination of the economic efficiency and distributional effects of the Program; and distribution of information to the Department of Justice and Federal Trade Commission to assist in anti-trust analysis of the Program.

Routine Uses of Records Maintained in the System, Including Categories of Users of and the Purposes of Such Uses:

These records or information contained therein may specifically be disclosed as a routine use as stated below. The Department will, when so authorized, make the determination as to the relevancy of a record prior to its decision to disclose a document.

1. In the event that a system of records maintained by the Department to carry out its functions indicates or is relevant to a violation or potential violation of law or contract, whether civil, criminal or regulatory in nature and whether arising by general statute or particular program statute or contract, or rule, regulation or order issued pursuant thereto, or the necessity to protect an interest of the Department, the relevant records in the system of records, including individual identifiers, may be referred to the appropriate agency, whether Federal, State, local or foreign, charged with the responsibility of investigation or prosecuting such violation or charged with enforcing or implementing the statute or contract, or rule, regulation or order issued pursuant thereto, or protecting the interest of the Department. That agency may disclose such records in the course of conducting its investigation.

2. A record from this system of records may be disclosed in the course of presenting evidence to a court, magistrate or administrative tribunal, including disclosures during the course of litigation, such as through discovery or to opposing counsel in the course of settlement negotiations.

3. A record in this system of records may be disclosed to a Member of Congress submitting a request involving an individual when the individual has requested assistance from the Member with respect to the subject matter of the record.

4. A record in this system of records may be disclosed without individual identifiers to a contractor of the Department having need for the information in the performance of the contract, but not operating a system of records within the meaning of 5 U.S.C. 552a(m).

5. A record in this system of records may be disclosed with individual identifiers to Department of Justice and the Federal Trade Commission when such records are requested by those agencies for anti-trust analyses or enforcement proceedings.

Policies and Practices for Storing, Retrieving, Accessing, Retaining, and Disposing of Records in the System:

Storage:

Computerized data base; electronic storage media; paper records in file folders in locked cabinets.

Retrievability:

May be retrieved by NMFS internal identification number, name of owner or lessee, vessel permit number, plant permit number, crew license number, vessel name, or plant name; however, records can be accessed by any file element or any combination thereof.

Safeguards:

Buildings where the records are maintained employ security systems with locks and access limits. Only those that have the need to know, to carry out the official duties of their job, have access to the information. Computerized data base is password protected and access is limited. Paper records are maintained in secured file cabinets in areas that are accessible only to authorized personnel of DCA. NMFS, Alaska Region, contractors, to whom access to this information is granted in accordance with this system of records routine uses provision, are instructed on the confidential nature of this information.

Retention and Disposal:

All records shall be retained and disposed of in accordance with National Archives and Records Administration regulations (36 CFR subchapter B—Records Retention); Departmental directives and comprehensive records schedules.

System Manager(s) and Address:

Pacific States Marine Fisheries Commission, 612 West Willoughby Avenue, Juneau, Alaska 99802.

Notification Procedure:

Individuals seeking to determine whether information about themselves is contained in this system should address written inquiries to the System Manager. Written requests must be signed by the requesting individual.

Record Access Procedures:

Individuals seeking access to information about themselves contained in this system should address written inquiries to the System Manager.

Contesting Record Procedures:

The Department's rules for accessing records, contesting contents, and appealing initial determinations are published in 15 CFR part 4b or may be obtained from the System Manager.

Record Source Categories:

Information contained in the files is obtained from the individual EDRs.

Exemptions Claimed for the System:

None.

Dated: February 25, 2005.
Brenda Dolan,
Department of Commerce, Freedom of Information/Privacy Act Officer.

[FR Doc. 05-4108 Filed 3-2-05; 8:45 am]

BILLING CODE 3510-22-P